INTERNATIONAL TRADE COMMISSION

[Investigation No. 731-TA-244 (Third Review)]

Natural Bristle Paintbrushes From China

AGENCY: United States International Trade Commission.

ACTION: Termination of five-year review.

SUMMARY: On July 30, 2010, the Department of Commerce published notice in the Federal Register of the final results of its changed circumstances review concerning natural bristle paintbrushes from China (75 FR 44939). Commerce announced that it was revoking the subject antidumping duty order based on the fact that domestic parties have expressed a lack of interest in antidumping duty relief from imports of subject merchandise. Accordingly, pursuant to section 751(c) of the Tariff Act of 1930 (19 U.S.C. 1675(c)), the subject review is terminated.

DATES: Effective Date: July 30, 2010.

FOR FURTHER INFORMATION CONTACT: Keysha Martinez (202-205-2136), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this five-year review may be viewed on the Commission's electronic docket (EDIS) at http://edis.usitc.gov.

Authority: This five-year review is being terminated under authority of title VII of the Tariff Act of 1930; this notice is published pursuant to section 207.69 of the Commission's rules (19 CFR 207.69).

By order of the Commission.
Issued: August 5, 2010.
Marilyn R. Abbott,
Secretary to the Commission.

[FR Doc. 2010-19765 Filed 8-10-10; 8:45 am]

BILLING CODE 7020-02-P